DEPARTMENT OF COMMERCE

National Oceanic and Atmospheric Administration

RIN 0648-XV108

Pacific Fishery Management Council; Public Meeting

AGENCY: National Marine Fisheries Service (NMFS), National Oceanic and Atmospheric Administration (NOAA), Commerce.

ACTION: Notice of public meeting (webinar).

SUMMARY: The Pacific Fishery Management Council's (Pacific Council) Southern Resident Killer Whale (SRKW) Workgroup (Workgroup) will host a webinar that is open to the public.

DATES: The webinar will be held Tuesday, October 29, 2019, at 9 a.m. and will end at 2 p.m. or when business for the day has been completed.

ADDRESSES: A public listening station is available at the Pacific Council office (address below). To attend the webinar, use this link: https://www.gotomeeting.com/webinar (click “Join” in top right corner of page); (1) Enter the Webinar ID: 526-133-259; (2) Enter your name and email address (required). You must use your telephone for the audio portion of the meeting by dialing this TOLL number: 1 (914) 614-3221; (3) Enter the Attendee phone audio access code: 294-147-773. NOTE: We have disabled Mic/Speakers as an option and require all participants to use a telephone or cell phone to participate. Technical Information and System Requirements: PC-based attendees are required to use Windows® 7, Vista, or XP; Mac®-based attendees are required to use Mac OS® X 10.5 or newer; Mobile attendees are required to use iPhone®, iPad®, Android™ phone or Android tablet (see https://www.gotomeeting.com/webinar/ipad-iphone-android-webinar-apps). You may send an email to Mr. Kris Kleinschmidt at Kris.Kleinschmidt@noaa.gov or contact him at (503) 820-2280, extension 411 for technical assistance.

Council address: Pacific Fishery Management Council, 7700 NE Ambassador Place, Suite 101, Portland, OR 97220-1384.

FOR FURTHER INFORMATION CONTACT: Robin Ehlke, Pacific Council; telephone: (503) 820-2410.

SUPPLEMENTARY INFORMATION: The purpose of the webinar will be to prepare for the Pacific Council's upcoming November meeting in Costa Mesa, CA; review the Workgroup's draft Risk Assessment; discuss data needs; and document development, work plans, and progress made on assigned tasks. The Workgroup may also discuss and prepare for future Workgroup and Council meetings. The Pacific Council's Salmon Advisory Subpanel will be invited to attend in order to provide additional input and comments on the Workgroup's draft Risk Assessment report as needed.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The public listening station is physically accessible to people with disabilities. Requests for sign language interpretation or other auxiliary aids should be directed to Mr. Kris Kleinschmidt (kris.kleinschmidt@noaa.gov; (503) 820-2411) at least 10 days prior to the meeting date.

Dated: October 8, 2019.
Tracey L. Thompson,
Acting Deputy Director, Office of Sustainable Fisheries, National Marine Fisheries Service.

[FR Doc. 2019-22291 Filed 10-10-19; 8:45 am]

BILLING CODE 3510-22-P